DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: Adult Treatment Court Collaborative Program Evaluation—NEW

The Substance Abuse and Mental Health Services Administration's (SAMHSA), Center for Mental Health Services (CMHS) and Center for Substance Abuse Treatment (CSAT) have jointly implemented the Adult Treatment Court Collaborative (ATCC) Program. SAMHSA launched the ATCC program in 2011 form new collaborations between specialty courts and treatment systems to effect community-level systems transformation and establish networks that expand access to treatment among those involved in the criminal justice system. CMHS and CSAT are requesting approval from the Office of Management and Budget (OMB) to implement data collection activities to determine the degree to which grantees individually and collectively meet the goals of the program, including the impact of program activities on systems and clients.

The current proposal requests the implementation of new data collection efforts to support the Evaluation of the ATCC Program. Three sets of data collection activities are proposed, for a total of six instruments. Specifically it requests:

1. Adding “Supplemental Client” measures to gather client level data on program participants at baseline and six-month follow-up to assess client outcomes and better compare and contrast programs based on characteristics. The annual baseline data are collected on new individuals admitted to the program. The proposed measures include:

a. Questions about housing stability, one about recentcy of homelessness and the number of days homeless in the past 6 months. Administered at baseline only.

b. Questions about lifetime incidence of arrests and incarceration, including total time spent in jail/prison and prior experience with specialty courts. Administered at baseline only.

c. Treatment History for mental health and substance use disorders. Administered at baseline only.

d. Questions on trauma events to document adult, childhood, and recent trauma. Lifetime questions administered at baseline only and recent at six month.

e. Questions on trauma symptoms using the Post-Traumatic Disorder Checklist-Civilian (PCL-C) to document trauma diagnosis and change over time. Administered at baseline and six month.

f. Questions on mental health symptoms using the Brief Symptom Inventory—18 (BSI-18) to document mental health diagnosis and change over time. Administered at baseline and six month.

g. Questions on procedural justice and perceptions of fairness by program clients. Administered at six month only.

h. Questions about behavioral health treatment services to document service receipt. Administered at six month only.

2. Adding three instruments to collect record review data from Grantees.

a. Screening/Eligibility—Information on individuals referred to the program for screening/eligibility determination, client diagnosis, and the outcome of the screen (eligible/not eligible), to determine the scope of individuals considered for the program.

b. Program Participation/Service Referral—Information on the treatment/service referrals made to clients enrolled in the programs, to determine the range and scope of services provided in the program network, as well discharge data to determine the conditions under which clients complete the programs.

c. Information on the arrests in the 12-months pre and post program entry, including the nature of the arrest, to document recidivism.

3. Adding the Collaborative Survey to gather information on collaboration and program implementation from key project stakeholders. This instrument will be administered once annually, to five to eight stakeholders in each project site. This tool has sections of the questions tailored to address the respondents' specific roles in the grant program (e.g. project directors, judges, clinicians) and includes an assessment of the activities of the collaborative.

The following tables summarize the burden for data collection.

CY 2013 Annual Reporting Burden
Data collection activity | Number of respondents | Responses per respondent | Total responses | Average hours per response | Total hour burden
Supplemental Client Interviews:
Baseline (at enrollment) | 624 | 1 | 624 | 0.25 | 156
6 months | 499 | 1 | 499 | 0.25 | 125
Sub Total | 624 |  | 1,123 |  | 281
Collaborative Survey | 77 | 1 | 77 | 1 | 77
Record Management:
Secondary Data—(Screening/admission) ³ | 11 | 489 | 5,382 | 0.25 | 1,346
Secondary Data—(Arrest data) ³ | 11 | 40 | 440 | 0.25 | 110
Secondary Data—(Participation/service use) | 11 | 57 | 627 | 0.25 | 157
Sub Total | 11 | 586 | 6,449 |  | 1,613
Overall Total: | 712 |  | 7,649 |  | 1,971

CY 2014 Annual Reporting Burden
Data collection activity | Number of respondents | Responses per respondent | Total responses | Average hours per response | Total hour burden
Supplemental Client Interviews:
Baseline (at enrollment) | 682 | 1 | 682 | 0.25 | 171
6 months | 546 | 1 | 546 | 0.25 | 137
Sub Total | 682 |  | 1,228 |  | 308
Collaborative Survey | 77 | 1 | 77 | 1 | 77
Record Management:
Secondary Data—(Screening/admission) | 11 | 489 | 5,379 | 0.25 | 1,345
Secondary Data—(Arrest data) | 11 | 45 | 495 | 0.25 | 124
Secondary Data—(Participation/service use) | 11 | 57 | 627 | 0.25 | 157
Sub Total | 11 | 586 | 6,501 |  | 1,625
Overall Total: | 770 |  | 7,806 |  | 2,011

CY 2015 Annual Reporting Burden
Data collection activity | Number of respondents | Responses per respondent | Total responses | Average hours per response | Total hour burden
Supplemental Client Interviews:
Baseline (at enrollment) | 682 | 1 | 682 | 0.25 | 171
6 months | 546 | 1 | 546 | 0.25 | 137
Sub Total | 682 |  | 1,228 |  | 308
Collaborative Survey | 77 | 1 | 77 | 1 | 77
Record Management:
Secondary Data—(Screening/admission) | 11 | 489 | 5,379 | 0.25 | 1,345
Secondary Data—(Arrest data) | 11 | 45 | 495 | 0.25 | 124
Secondary Data—(Participation/service use) | 11 | 57 | 627 | 0.25 | 157
Sub Total | 11 | 586 | 6,501 |  | 1,625
Overall Total | 770 |  | 7,806 |  | 2,011

Total Annualized Burden
Data collection activity | Annualized number of respondents | Annualized total responses | Annualized total hour burden
Supplemental Client Interviews:
Baseline | 662 | 662 | 166
6 month | 530 | 530 | 133
Sub-total | 662 | 1192 | 299
Collaborative Survey | 77 | 77 | 77
Record Management:
Screening Data | 11 | 5,382 | 1,346
Arrests | 11 | 477 | 119
Program Participation | 11 | 627 | 157
Sub-Total | 11 | 6,486 | 1,622
Total Annualized | 750 | 7,755 | 1,998

Written comments and recommendations concerning the proposed information collection should be sent by November 21, 2012 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2012-25868 Filed 10-19-12; 8:45 am]

BILLING CODE 4162-20-P